DEPARTMENT OF DEFENSE

Office of the Secretary

[Docket ID: DoD-2012-HA-0117]

Proposed Collection; Comment Request

AGENCY: Office of the Assistant Secretary of Defense for Health Affairs, DoD.

ACTION: Notice.

In compliance with Section 3506(c)(2)(A) of the Paperwork Reduction Act of 1995, the Office of the Assistant Secretary of Defense for Health Affairs announces the proposed extension of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by November 19, 2012.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Mr. Mike Talisnik, Office of the ASD (HA)—TMA, 7700 Arlington Blvd., Suite 5101, Falls Church, VA 22042, (703) 681-8723.

Title; Associated Form; and OMB Number: TriCase Case Management & Authorization System; OMB Control Number 0720-TBD.

Needs and Uses: TriCase (Case Management and Authorization System) manages cases involving the coordination of medical care and medical transportation. The system provides International SOS employees with a central application to interact with TRICARE beneficiaries, providers, family members, and government representatives to manage healthcare delivery activities. TriCase is available in four International SOS offices worldwide and is limited to authorized TRICARE users who meet appropriate clearance levels. The system has been tailored to support TRICARE Management Activity (TMA).

Affected Public: Individuals or households.

Annual Burden Hours: 28,800.

Number of Respondents: 4,800 per month.

Responses per Respondent: 12.

Average Burden per Response: 30 minutes.

Frequency: Monthly.

SUPPLEMENTARY INFORMATION:

Summary of Information Collection

Information collected is for TRICARE beneficiaries requesting health care services outside the 50 United States and District of Columbia. The information collected can come in writing from a Military Treatment Facility (MTF), from a TRICARE beneficiary or from a host nation provider. The information can also be collected telephonically when assisting the beneficiary or host nation provider rendering the care. The system allows International SOS to document interaction with the patient (including emails, letters, faxes, and phone conversations). It allows for notes and actions to be documented in the system to allow the ability to track progress of all types of cases and authorizations. It further allows for validation of enrollment and eligibility for services. This information is used to assign staff with various tasks to manage an incident of care both administratively and medically to manage a case.

Dated: September 14, 2012.
Aaron Siegel,
OSD Federal Register Liaison Officer, Department of Defense.

[FR Doc. 2012-23107 Filed 9-18-12; 8:45 am]

BILLING CODE 5001-06-P